DEPARTMENT OF TRANSPORTATION

Federal Aviation Administration

Notice of Intent To Request Revision From the Office of Management and Budget of a Currently Approved Information Collection Activity, Request for Comments; Operating Requirements: Commuter and On-Demand Operation

AGENCY: Federal Aviation Administration (FAA), DOT.

ACTION: Notice and request for comments.

SUMMARY: Title 49 U.S.C., Section 44702 authorizes issuance of air carrier operating certificates. 14 CFR prescribes requirements for Air Carrier/Commercial Operators. The info collected shows compliance & applicant eligibility.

DATES: Please submit comments by April 3, 2009.

FOR FURTHER INFORMATION CONTACT: Carla Mauney on (202) 267-9895, or by e-mail at: Carla.Mauney@faa.gov.

SUPPLEMENTARY INFORMATION:

Federal Aviation Administration (FAA)

Title: Operating Requirements: Commuter and On-Demand Operation.

Type of Request: Extension without change of an approved collection.

OMB Control Number: 2120-0039.

Form(s): 8070-1.

Affected Public: A total of 2,765 Respondents.

Frequency: The information is collected on occasion.

Estimated Average Burden per Response: Approximately 7.7 minutes per response.

Estimated Annual Burden Hours: An estimated 1,164,091 hours annually.

Abstract: Title 49 U.S.C., Section 44702 authorizes issuance of air carrier operating certificates. 14 CFR prescribes requirements for Air Carrier/Commercial Operators. The info collected shows compliance and applicant eligibility.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on January 26, 2009.
Carla Mauney,
FAA Information Collection Clearance Officer, IT Enterprises Business Services Division, AES-200.

[FR Doc. E9-1985 Filed 1-30-09; 8:45 am]

BILLING CODE 4910-13-M